DEPARTMENT OF DEFENSE

Office of the Secretary

Submission for OMB Review; Comment Request

ACTION: Notice.

The Department of Defense has submitted to OMB for clearance, the following proposal for collection of information under the provision of the Paperwork Reduction Act (44 U.S.C. chapter 35).

DATES: Consideration will be given to all comments received by April 28, 2004.

Title, Form, and OMB Number: Defense Federal Acquisition Regulation Supplement (DFARS) Appendix I, DoD Pilot Mentor-Protégé Program; None; OMB Number 0704-0332.

Type of Request: Extension.

Number of Respondents: 269.

Responses Per Respondent: 1.5 (average).

Annual Responses: 393.

Average Burden Per Response: 3.5 hours.

Annual Burden Hours: 1,388.

Needs and Uses: DoD needs this information to evaluate whether the purposes of the DoD Pilot Mentor-Protégé Program have been met. The purposes of the Program are to: (1) Provide incentives to major DoD contractors to assist protégé firms in enhancing their capabilities to satisfy contract and subcontract requirements; (2) increase the overall participation of protégé firms as subcontractors and suppliers; and, (3) foster the establishment of long-term business relationships between protégé firms and major DoD contractors. Participation in this program is voluntary. DFARS Appendix I-111(a) requires mentor firms to report on the progress made under active mentor-protégé agreements semiannually.

Affected Public: Business or other For Profit; Not-For-Profit Institutions.

Frequency: Semi-annually.

Respondent's Obligation: Required to obtain or retain benefits.

OMB Desk Officer: Ms. Jacqueline Zeiher.

Written comments and recommendations on the proposed information collection should be sent to Ms. Zeiher at the Office of Management and Budget, Desk Officer for DoD, Room 10236, New Executive Office Building, Washington, DC 20503.

DoD Clearance Officer: Mr. Robert Cushing.

Written requests for copies of the information collection proposal should be sent to Mr. Cushing, WHS/ESCD/Information Management Division, 1225 Jefferson Davis Highway, Suite 504, Arlington, VA 22202-4326.

Dated: March 22, 2004.
L.M. Bynum,
Alternate OSD Federal Register Liaison Officer, Department of Defense.

[FR Doc. 04-6882 Filed 3-26-04; 8:45 am]

BILLING CODE 5001-06-M